SURFACE TRANSPORTATION BOARD

[Docket No. FD 36260]

Gateway Industrial Railroad, LLC—Acquisition and Operation Exemption—Avatar Corporation

Gateway Industrial Railway, LLC (GIRR), a noncarrier, has filed a verified notice of exemption ¹ under 49 CFR 1150.31 to acquire and operate by agreement with Avatar Corporation approximately 2,400 feet (0.46 mile) of existing railroad right-of-way and trackage and transloading facilities in University Park, Ill. (the trackage).

¹ GIRR supplemented its verified notice of exemption on December 18, 2018.

According to GIRR, there are no mileposts associated with the trackage. GIRR states that the trackage is used to interchange with Canadian National Railroad. GIRR further states that Avatar Corporation ships outbound shipments via truck and rail, and that it is anticipated that GIRR will service nearby companies.

GIRR asserts that, because the trackage in question will constitute its entire line of railroad, this trackage is a line of railroad under 49 U.S.C. 10901, rather than spur, switching, or side tracks under 49 U.S.C. 10906.²

² See Effingham R.R.—Pet. for Declaratory Order—Constr. at Effingham, Ill., NOR 41986 et al. (STB served Sept. 18, 1998), aff'd sub nom. United Transp. Union-Ill. Legislative Bd. v. STB, 183 F.3d 606 (7th Cir. 1999).

GIRR certifies that its projected annual revenues as a result of this transaction will not exceed those that would qualify it as a Class III rail carrier and will not exceed $5 million.

GIRR states that the transaction is scheduled to be consummated on or before December 14, 2018. However, the earliest this transaction may be consummated is January 10, 2019, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than January 3, 2019 (at least seven days before the exemption becomes effective).

An original and 10 copies of all pleadings, referring to Docket No. 36260, must be filed with the Surface Transportation Board, 395 E Street SW, Washington, DC 20423-0001. In addition, one copy of each pleading must be served on David C. Dillon, Dillon & Nash, Ltd., 3100 Dundee Road, Suite 508, Northbrook, IL 60062.

According to GIRR, this action is categorically excluded from environmental review under 49 CFR 1105.6(c) and from historic reporting requirements under 49 CFR 1105.8(b).

Board decisions and notices are available at www.stb.gov.

Decided: December 20, 2018.
By the Board, Allison C. Davis, Acting Director, Office of Proceedings.
Kenyatta Clay,
Clearance Clerk.

[FR Doc. 2018-28045 Filed 12-26-18; 8:45 am]

BILLING CODE 4915-01-P